DEPARTMENT OF THE INTERIOR

Bureau of Indian Affairs

Land Acquisitions: Mandan, Hidatsa, and Arikara Nation

AGENCY: Bureau of Indian Affairs, Interior.

ACTION: Notice.

SUMMARY: The Assistant Secretary—Indian Affairs made a final agency determination to acquire approximately 468.39 acres of land into trust for the Mandan, Hidatsa, and Arikara Nation (MHA Nation) on October 10, 2012.

FOR FURTHER INFORMATION CONTACT: Diane Mann-Klager, Bureau of Indian Affairs, Division of Natural Resources, 115 Fourth Ave Southeast, Suite 400, Aberdeen, South Dakota 57401; phone: (605) 226-7621; email: diane.mann-klager@bia.gov.

SUPPLEMENTARY INFORMATION: This notice is published in the exercise of authority delegated by the Secretary of the Interior to the Assistant Secretary—Indian Affairs by 209 Departmental Manual 8.1 and is published to comply with the requirements of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs.

On October 10, 2012, the Assistant Secretary—Indian Affairs decided to accept approximately 468.39 acres of land into trust for the MHA Nation; under the authority of the Indian Reorganization Act of 1934, 25 U.S.C. 465. The parcel is located on the Fort Berthold reservation, in Ward County, North Dakota, and is located in the northeast corner of the Fort Berthold Indian Reservation west of Makoti, North Dakota, in N½ of Section 19 and NW¼ of Section 20 of Township 152 North, Range 87 West, 5th Principal Meridian. The MHA Nation proposes to use the property to construct and operate a new “Clean Fuels Refinery” and grow forage for buffalo.

Dated: October 10, 2012.
Kevin K. Washburn,
Assistant Secretary—Indian Affairs.

[FR Doc. 2012-25255 Filed 10-11-12; 8:45 am]

BILLING CODE 4310-4N-P